DEPARTMENT OF AGRICULTURE

Forest Service

Trinity County Resource Advisory Committee (RAC)

AGENCY: Forest Service, USDA.

ACTION: Notice of meeting.

SUMMARY: The Trinity County Resource Advisory Committee (RAC) will meet on February 2, 2004 in Weaverville, California. The purpose of the meeting is to discuss the selection of Title II projects under Pub. L. 106-393, H.R. 2389, the Secure Rural Schools and Community Self-Determination Act of 2000, also called the “Payments to States” Act.

DATES: The meeting will be held on February 2, 2004 from 6:30 to 8:30 p.m.

ADDRESSES: The meeting will be held at the Trinity County Public Utilities District Conference Room, 26 Ponderosa Lane, Weaverville, California.

FOR FURTHER INFORMATION CONTACT: Joyce Andersen, Designated Federal Official, USDA, Shasta Trinity National Forests, P.O. Box 1190, Weaverville, CA 96093. Phone: (530) 623-1709. E-mail: jandersen@fs.fed.us.

SUPPLEMENTARY INFORMATION: The meeting will focus on developing a strategy for selecting Title II projects for implementation in Fiscal Year 2005. There will also be brief presentations about the Healthy Forests Restoration Act and Stewardship contracting. The meeting is open to the public. Public input opportunity will be provided and individuals will have the opportunity to address the committee at that time.

Dated: January 7, 2004.
Jean M. Hawthorne,
Acting Deputy Forest Supervisor.

[FR Doc. 04-629 Filed 1-12-04; 8:45 am]

BILLING CODE 3410-11-M